DEPARTMENT OF JUSTICE

Notice of Lodging of Consent Decree Under Comprehensive Environmental Response, Compensation and Liability Act

In accordance with Departmental policy, 28 CFR 50.7, notice is hereby given that on April 25, 2003, a proposed Consent Decree in United States v. Morgantown Engineering and Construction, Inc. (N.D.W.Va.), C.A. No. 1: 03CV56, was lodged with the United States District Court for the Northern District of West Virginia.

In this action, the United States sought response costs incurred by the Environmental Protection Agency (“EPA”), pursuant to Section 107 of the Comprehensive Environmental Response, Compensation and Liability Act, as amended (“CERCLA”), 42 U.S.C. 9607, in connection with the clean-up of the Beaumont Glass Site, located in Morgantown, West Virginia. EPA incurred $7.3 million in response costs. The Consent Decree represents an ability-to-pay settlement with Morgantown Engineering and Construction, Inc. (“MEC”), the owner of the Site. Under the Consent Decree, MEC will pay EPA $250,000 in three installments over a period of two years. MEC will pay $25,000 within 30 days after entry of the Consent Decree by the court and will pay $112,500, plus interest as provided in the Consent Decree, one year later, and a third payment of $112,500, plus interest, two years after the entry date.

The Department of Justice will receive, for a period of 30 days from the date of this publication, comments relating to the proposed Consent Decree. Comments should be addressed to the Assistant Attorney General for the Environment and Natural Resources Division, P.O. Box 7611, U.S. Department of Justice, Washington, DC 20044-7611, and should refer to United States v. Morgantown Engineering and Construction, Inc., DOJ Ref. No. 90-11-3-07651.

The proposed Consent Decree may be examined at the Office of the United States Attorney, 1100 Main Street, Suite 200, Wheeling, West Virginia 26003; and U.S. EPA Region 3, 1650 Arch Street, Philadelphia, Pennsylvania 19103. During the public comment period, the proposed Consent Decree may also be examined on the following Department of Justice Web site, http://www.usdoj.gov/enrd/open.html. A copy of the proposed Consent Decree may be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $6.00 (.25 cents per page reproduction costs), payable to the U.S. Treasury.

Robert D. Brook,
Assistant Section Chief, Environmental Enforcement Section Environment and Natural Resources Division.

[FR Doc. 03-11400 Filed 5-7-03; 8:45 am]

BILLING CODE 4410-15-M